DEPARTMENT OF DEFENSE

Department of the Navy

Notice of Public Hearings for the Naval Sea Systems Command Naval Undersea Warfare Center, Keyport Range Complex Extension Draft Environmental Impact Statement/Overseas Environmental Impact Statement

AGENCY: Department of the Navy, DoD.

ACTION: Notice.

SUMMARY: Pursuant to section 102(2)(c) of the National Environmental Policy Act (NEPA) of 1969 (42 United States Code [U.S.C.] 4321); the Council on Environmental Quality (CEQ) Regulations for implementing the procedural provisions of NEPA (Title 40 Code of Federal Regulations [CFR] Parts 1500-1508); Department of the Navy Procedures for Implementing NEPA (32 CFR 775); Executive Order (EO)12114, Environmental Effects Abroad of Major Federal Actions; and Department of Defense (DoD) regulations implementing EO 12114 (32 CFR Part 187), the Department of the Navy (Navy) has prepared and filed with the U.S. Environmental Protection Agency a Draft Environmental Impact Statement/Overseas Environmental Impact Statement (EIS/OEIS) on September 3, 2008. The National Marine Fisheries Service (NMFS) is a Cooperating Agency for the EIS/OEIS.

The EIS/OEIS evaluates the potential environmental impacts associated with current and proposed research, development, testing, and evaluation (RDT&E) and related activities scheduled and coordinated by Naval Undersea Warfare Center (NUWC) Keyport at the Naval Sea Systems Command (NAVSEA) NUWC Keyport Range Complex in Washington State. The proposed action includes an extension of the operational areas of the NAVSEA NUWC Keyport Range Complex and small increases in the average annual number of tests and days of testing at two of the three range sites that comprise the Range Complex. A Notice of Intent for this Draft EIS/OEIS was published in the Federal Register on September 11, 2003 (68 FR 176).

The Navy will conduct four public hearings to receive oral and written comments on the Draft EIS/OEIS. Federal agencies, state agencies, and local agencies and interested individuals are invited to be present or represented at the public hearings. This notice announces the dates and locations of the public hearings for this Draft EIS/OEIS.

An open house session will precede the scheduled public hearing at each of the locations listed below and will allow individuals to review the information presented in the Draft EIS/OEIS. Navy representatives will be available during the open house sessions to clarify information related to the Draft EIS/OEIS.

DATES AND ADDRESSES: All meetings will start with an open house session from 5 p.m. to 6:30 p.m. A presentation and formal public comment period will be held from 7 p.m. to 9 p.m. Public hearings will be held on the following dates and at the following locations: Wednesday, October 1, 2008, at the Naval Undersea Museum, 610 Dowell Street, Keyport; Thursday, October 2, 2008, at North Mason Senior High School, 200 E. Campus Drive, Belfair; Monday, October 6, 2008, at Gray's Harbor Fire District #8, 4 First Street N., Pacific Beach; and Tuesday, October 7, Quilcene Public Schools, Multi-Purpose Room, 294715 Hwy 101, Quilcene.

FOR FURTHER INFORMATION CONTACT: Naval Facilities Engineering Command, Northwest, Attention: Ms. Kimberly Kler (EIS/OEIS PM), 1101 Tautog Circle, Suite 203, Silverdale, WA 98315-1101; facsimile: 360-396-0857; or http://www-keyport.kpt.nuwc.navy.mil.

SUPPLEMENTARY INFORMATION: The Department of the Navy (Navy) proposes to extend the operational areas associated with the NAVSEA NUWC Keyport Range Complex in Washington State. The Keyport Range Complex is composed of three geographically distinct range sites: The Keyport Range Site, Dabob Bay Range Complex (DBRC) Site, and the Quinault Underwater Tracking Range (QUTR) Site. The proposed action would provide additional operating space at each of the three range sites and would also include small increases in the average annual number of tests and days of testing at the Keyport Range Site and the QUTR Site. Portions of the proposed extension associated with the QUTR Site fall outside the 12-nautical mile (nm) (22-kilometer [km]) Territorial Waters established by Presidential Proclamation 5928. Therefore, this Draft EIS/OEIS has also been prepared in accordance with Navy procedures implementing Executive Order 12114 addressing components of the proposed action beyond U.S. Territorial Waters.

The purpose of the proposed action is to enable NUWC Keyport to continue fulfilling its mission of providing test and evaluation services and expertise to support the Navy's evolving manned and unmanned undersea vehicle program. NUWC Keyport has historically provided facilities and capabilities to support testing of torpedoes, other unmanned vehicles, submarine readiness, diver training, and similar activities that are critical to the success of undersea warfare. Technological advancements in the materials, instrumentation, guidance systems, and tactical capabilities of manned and unmanned vehicles continue to evolve in parallel with emerging national security priorities and threat assessments. In response, range capabilities and vehicle test protocols must also evolve in order to provide effective program support for such advancements.

The proposed action to extend range operational areas is needed because the existing Range Complex is becoming increasingly incapable of satisfying the existing and evolving operational capabilities and test requirements of next-generation manned and unmanned vehicles. The Navy requires a range complex with assets that provide a broader diversity of sea state conditions, bottom type, deeper water, and increased room to maneuver and combine activities. Extending the Range Complex operating areas as proposed would enable the Navy to better support current and future vehicle test requirements in multiple marine environments.

The proposed action would support current and evolving test requirements and range activities conducted at the NAVSEA NUWC Keyport Range Complex. The action also proposes increases in the average annual number of tests and days of testing at Keyport Range and QUTR Sites. As the three range sites within the NAVSEA NUWC Keyport Range Complex are geographically distinct, the set of alternatives for one range site is independent of the set of alternatives for another range site. One or more action alternatives have been identified for each range site (in addition to the No-Action Alternative):

• Keyport Range Site: Keyport Range Alternative 1 (Preferred Alternative)—extend range boundaries to the north, east, and south, increasing the size of the range from 1.5 square nautical miles (nm²) to 3.2 nm² (5.2 square kilometers [km²] to 11.0 km²). The average annual days of use would increase from 55 to 60 days.

• DBRC Site: DBRC Alternative 1—extend the southern boundary of this range approximately 10 nm (19 km). DBRC Alternative 2 (Preferred Alternative)—extend the southern boundary approximately 10 nm (19 km), and the northern boundary to 1 nm (2 km) south of the Hood Canal Bridge, increasing the size of the range from 32.7 nm² to 45.7 nm² (112.1 km² to 156.7 km²). There would be no increase in average annual days of use under either DBRC alternative.

• QUTR Site: QUTR Alternative 1—extend the range boundaries to coincide with the overlying special use airspace of W-237A plus locate an 8.4 nm² (28.8 km²) surf zone at Kalaloch. The total range area under QUTR Alternative 1 would increase from approximately 48.3 nm² (165.5 km²) to approximately 1,840.4 nm² (6,312.4 km²). QUTR Alternative 2 (Preferred Alternative)—extend the range boundaries the same as Alternative 1 but locate a 7.8 nm² (26.6 km²) surf zone at Pacific Beach instead of at Kalaloch. The total range area under QUTR Alternative 2 would be 1,839.8 nm² (6,310.2 km²). QUTR Alternative 3—extend the range boundaries the same as Alternative 1 but locate a 22.6 nm² (77.6 km²) surf zone at Ocean City instead of at Kalaloch. The total range area under QUTR Alternative 3 would be 1,854.6 nm² (6,361.2 km²). For all three QUTR alternatives, the average annual use for offshore activities would increase from 14 days to 16 days and activities in the selected surf zone would occur an average of 30 days per year.

The Navy considered a number of other alternatives that were potentially able to support the NUWC Keyport mission. These testing alternatives were initially screened and evaluated to determine their ability to meet the minimum operational selection criteria but were eliminated from consideration due to their inconsistency with the mission and strategic vision for NUWC Keyport and with the purpose and need for the Proposed Action. Three additional surf zone alternatives were initially considered but eliminated from consideration because they did not meet the screening criteria for the Proposed Action. Therefore, these alternatives were not carried forward for analysis in the EIS/OEIS.

Section 1502.14(d) of the CEQ guidelines requires that the alternatives analysis in the EIS “include the alternative of no action.” In its NEPA's Forty Most Asked Questions, CEQ identifies two distinct interpretations of “no action.” The interpretation selected by the action proponent depends on the nature of the proposal being evaluated. One interpretation of the No-Action alternative is that the proposed activity would not take place. This would mean that Navy would not conduct test or training activities in the Range Complex. This interpretation does not meet the purpose and need of the proposed action and would neither be reasonable nor practical. The other interpretation of the No-Action alternative is “no change from current management direction or level of management intensity.” This interpretation would meet the purpose and need of the proposed action and would allow the Navy to compare the potential impacts of the proposed action to the impacts of maintaining the status quo. With regard to this EIS/OEIS, the No-Action Alternative represents the regular and historic level of activity on the Range Complex. Thus, the No-Action Alternative serves as a baseline “status quo” when studying levels of range use and activity. In the Draft EIS/OEIS, the potential impacts of the current level of RDT&E and fleet activity on the NAVSEA NUWC Keyport Range Complex (defined by the No-Action Alternative) are compared to the potential impacts of activities proposed under the action alternatives.

The Navy analyzed potential effects of its current and proposed activities on marine mammals, fish, sea turtles, marine flora and invertebrates, terrestrial wildlife, sediments and water quality, cultural resources, recreation, land and shoreline use, public health and safety, socioeconomics and environmental justice, and air quality.

No significant adverse impacts are identified for any resource area in any geographic location within the NAVSEA NUWC Keyport Range Complex Study Area that cannot be mitigated, with the exception of exposure of marine mammals to underwater sound. The Navy has requested from NMFS a Letter of Authorization (LOA) in accordance with the Marine Mammal Protection Act to authorize the incidental take of marine mammals that may result from the implementation of the activities analyzed in the NAVSEA NUWC Keyport Range Complex Extension Draft EIS/OEIS. In compliance with the Magnuson-Stevens Fisheries Conservation Management Act, the Navy is in consultation with NMFS regarding potential impacts to Essential Fish Habitat. In accordance with section 7 of the Endangered Species Act, the Navy is consulting with NMFS and U.S. Fish and Wildlife Service (USFWS) for potential impacts to federally listed species. The Navy is coordinating with the Washington Department of Ecology for a Coastal Consistency Determination under the Coastal Zone Management Act. Navy analysis has indicated that under the Clean Air Act requirements, no significant impacts would occur to the regional air quality and under the Clean Water Act there would be no significant impacts to water quality. National Historic Preservation Act analysis indicated that no significant impacts to cultural resources would occur if the proposed action or alternatives were implemented. Implementation of the No Action Alternative or any of the proposed action alternatives would not disturb, adversely affect, or result in any takes of bald eagles. None of the alternatives would result in a significant adverse effect on the population of a migratory bird species.

The decision to be made by the Assistant Secretary of the Navy (Installations & Environment) is to determine which alternatives analyzed in the EIS/OEIS best meet the needs of the Navy given that all reasonably foreseeable environmental impacts have been considered.

The Draft EIS/OEIS was distributed to Federal, State, and local agencies, elected officials, and other interested individuals and organizations on September 12, 2008. The public comment period will end on October 27, 2008. Copies of the Draft EIS/OEIS are available for public review at the following libraries:

• Aberdeen Timberland Library, 121 E. Market St., Aberdeen, WA

• Hoodsport Timberland Library, N. 40 Schoolhouse Hill Road, Hoodsport, WA

• Jefferson County Rural Library District, 620 Cedar Avenue, Port Hadlock, WA

• Kitsap Regional Library, 1301 Sylvan Way, Bremerton, WA

• North Mason Timberland Library, 23801 NE State Rt. 3, Belfair, WA

• Ocean Shores Public Library, 573 Pt. Brown Ave., NW., Ocean Shores, WA

• Port Orchard Library, 87 Sidney St., Port Orchard, WA

• Port Townsend Public Library, 1220 Lawrence St., Port Townsend, WA

• Poulsbo Branch Library, 700 NE Lincoln St., Poulsbo, WA

• Quinault Indian Nation Tribal Library, P.O. Box 189, Taholah, WA

• Skokomish Tribal Center, N 80 Tribal Center Road, Shelton, WA

The NAVSEA NUWC Keyport Range Complex Extension Draft EIS/OEIS is also available for electronic public viewing at: http://www-keyport.kpt.nuwc.navy.mil. A paper copy of the Executive Summary or a single CD with the Draft EIS/OEIS will be made available upon written request by contacting Naval Facilities Engineering Command, Northwest, Attention: Mrs. Kimberly Kler (EIS/OEIS PM), 1101 Tautog Circle, Suite 203, Silverdale, WA 98315-1101; facsimile: 360-396-0857.

Federal, State, and local agencies and interested parties are invited to be present or represented at the public hearing. Written comments can also be submitted during the open house sessions preceding the public hearings.

Oral statements will be heard and transcribed by a stenographer; however, to ensure the accuracy of the record, all statements should be submitted in writing. All statements, both oral and written, will become part of the public record on the Draft EIS/OEIS and will be responded to in the Final EIS/OEIS. Equal weight will be given to both oral and written statements. In the interest of available time, and to ensure all who wish to give an oral statement have the opportunity to do so, each speaker's comments will be limited to three (3) minutes. If a long statement is to be presented, it should be summarized at the public hearing with the full text submitted either in writing at the hearing, or mailed or faxed to Naval Facilities Engineering Command, Northwest, Attention: Mrs. Kimberly Kler (EIS/OEIS PM), 1101 Tautog Circle, Suite 203, Silverdale, WA 98315-1101; facsimile: 360-396-0857. In addition, comments may be submitted on-line at http://www-keyport.kpt.nuwc.navy.mil during the comment period. All written comments must be postmarked by October 27, 2008 to ensure they become part of the official record. All comments will be addressed in the Final EIS/OEIS.

Dated: September 3, 2008.
T.M. Cruz,
Lieutenant Commander, Judge Advocate General's Corps, U.S. Navy, Federal Register Liaison Officer.

[FR Doc. E8-21343 Filed 9-11-08; 8:45 am]

BILLING CODE 3810-FF-P